DEPARTMENT OF TRANSPORTATION

Federal Aviation Administration

14 CFR Part 39

[Docket No. FAA-2006-26052; Directorate Identifier 2006-NE-30-AD; Amendment 39-14823; AD 2006-23-11]

RIN 2120-AA64

Airworthiness Directives; Rolls-Royce, plc RB211 Trent 768-60, 772-60, and 772B-60 Turbofan Engines

AGENCY: Federal Aviation Administration (FAA), Department of Transportation (DOT).

ACTION: Final rule; request for comments.

SUMMARY: The FAA is adopting a new airworthiness directive (AD) for Rolls-Royce, plc (RR) RB211 Trent 768-60, 772-60, and 772B-60 turbofan engines. This AD requires initial and repetitive on-wing or in-shop inspections of the high pressure (HP)/intermediate pressure (IP) turbine bearing oil feed tube heat shield. This AD results from a report that a damaged outer heat shield caused fretting of the oil feed tubes. We are issuing this AD to prevent an uncontained failure of the HP turbine disc and damage to the airplane.

DATES: Effective December 19, 2006. The Director of the Federal Register approved the incorporation by reference of certain publications listed in the regulations as of December 19, 2006.

We must receive any comments on this AD by January 16, 2007.

ADDRESSES: Use one of the following addresses to comment on this AD:

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-0001.

• Fax: (202) 493-2251.

• Hand Delivery: Room PL-401 on the plaza level of the Nassif Building, 400 Seventh Street, SW., Washington, DC, between 9 a.m. and 5 p.m., Monday through Friday, except Federal holidays.

FOR FURTHER INFORMATION CONTACT: Christopher Spinney, Aerospace Engineer, Engine Certification Office, FAA, Engine and Propeller Directorate, 12 New England Executive Park, Burlington, MA 01803; telephone (781) 238-7175; fax (781) 238-7199.

SUPPLEMENTARY INFORMATION: The European Aviation Safety Agency (EASA) which is the airworthiness authority for the European Union, recently notified us that an unsafe condition may exist on RR RB211 Trent 768-60, 772-60 and 772B-60 turbofan engine. EASA advises that a Trent 700 engine was removed due to oil loss and low-oil pressure. Investigation established that a damaged outer heat shield caused fretting of the HP/IP turbine bearing oil feed tubes. Oil leakage from the oil feed tube at the outer heat shield position traveled forward to the cavity in front of the HP/IP turbine support structure and ignited. The fire caused localized heat damage to the rear of the HPT disc. This incident illustrated the possibility for overheating and failure of the HPT disc resulting from deterioration of the oil feed tube heat shield.

Relevant Service Information

We have reviewed and approved the technical contents of RR Alert Service Bulletin (ASB) No. RB.211-72-AF045, Revision 2, dated July 27, 2006. That ASB describes procedures for initial and repetitive on-wing or in-shop inspections for cracks in the HP/IPT oil feed tube outer heat shield. The CAA issued AD No. 2006-0073, dated April 3, 2006, in order to ensure the airworthiness of these RR engines in the United Kingdom.

Bilateral Airworthiness Agreement

This engine model is manufactured in the United Kingdom, and is type certificated for operation in the United States under the provisions of section 21.29 of the Federal Aviation Regulations (14 CFR 21.29) and the applicable bilateral airworthiness agreement. Under this bilateral airworthiness agreement, the CAA kept the FAA informed of the situation described above. We have examined the findings of the CAA, reviewed all available information, and determined that AD action is necessary for products of this type design that are certificated for operation in the United States.

FAA's Determination and Requirements of This AD

Although no airplanes that are registered in the United States use these engines, the possibility exists that the engines could be used on airplanes that are registered in the United States in the future. The unsafe condition described previously is likely to exist or develop on other RR RB211 Trent 768-60, 772-60, and 772B-60 turbofan engines of the same type design. We are issuing this AD to prevent uncontained failure of the HPT disc and damage to the airplane. This AD requires:

• An initial on-wing inspection of the oil feed tube heat shield within 10,000 hours or 2,500 cycles on the 05 module since new or overhaul or within 30 days after the effective date of this AD, whichever is later, or

• An initial in-shop inspection of the heat shield of oil feed tube during a shop visit of the module 05 where the module 05 is not scheduled for overhaul or within 30 days after the effective date of this AD, whichever is later.

• Thereafter, a repetitive inspection of the heat shield of oil feed tube at an interval determined by the condition of the heat shield.

You must use the service information described previously to perform the actions required by this AD.

FAA's Determination of the Effective Date

Since there are currently no domestic operators of this engine model, notice and opportunity for public comment before issuing this AD are unnecessary. A situation exists that allows the immediate adoption of this regulation.

Comments Invited

This AD is a final rule that involves requirements affecting flight safety and was not preceded by notice and an opportunity for public comment; however, we invite you to send us any written relevant data, views, or arguments regarding this AD. Send your comments to an address listed under ADDRESSES. Include “AD Docket No. FAA-2006-26052; Directorate Identifier 2006-NE-30-AD” in the subject line of your comments. We specifically invite comments on the overall regulatory, economic, environmental, and energy aspects of the rule that might suggest a need to modify it.

We will post all comments we receive, without change, to http://dms.dot.gov, including any personal information you provide. We will also post a report summarizing each substantive verbal contact with FAA personnel concerning this AD. Using the search function of the DMS Web site, anyone can find and read the comments in any of our dockets, including the name of the individual who sent the comment (or signed the comment on behalf of an association, business, labor union, etc.). You may review the DOT's complete Privacy Act Statement in the Federal Register published on April 11, 2000 (65 FR 19477-78) or you may visit http://dms.dot.gov.

Examining the AD Docket

You may examine the docket that contains the AD, any comments received, and any final disposition in person at the Docket Management Facility Docket Offices between 9 a.m. and 5 p.m., Monday through Friday, except Federal holidays. The Docket Office (telephone (800) 647-5227) is located on the plaza level of the Department of Transportation Nassif Building at the street address stated in ADDRESSES. Comments will be available in the AD docket shortly after the DMS receives them.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national Government and the States, or on the distribution of power and responsibilities among the various levels of government.

For the reasons discussed above, I certify that the regulation:

1. Is not a “significant regulatory action” under Executive Order 12866,

2. Is not a “significant rule” under the DOT Regulatory Policies and Procedures (44 FR 11034, February 26, 1979), and

3. Will not have a significant economic impact, positive or negative, on a substantial number of small entities under the criteria of the Regulatory Flexibility Act.

We prepared a summary of the costs to comply with this AD and placed it in the AD Docket. You may get a copy of this summary at the address listed under ADDRESSES.

List of Subjects in 14 CFR Part 39

Air transportation, Aircraft, Aviation safety, Incorporation by reference, Safety.

Adoption of the Amendment

Under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2006-23-11 Rolls-Royce plc: Amendment 39-14823. Docket No. FAA-2006-26052; Directorate Identifier 2006-NE-30-AD.

Effective Date

(a) This airworthiness directive (AD) becomes effective December 19, 2006.

Affected ADs

(b) None.

Applicability

(c) This AD applies to Rolls-Royce plc (RR) RB211 Trent 768-60, 772-60, and 772B-60 turbofan engines that do not incorporate RR Service Bulletin RB.211-71-F117 or RB.211-72-048. These engines are installed on, but not limited to, Airbus A330 series airplanes.

Unsafe Condition

(d) This AD results from a report that a damaged outer heat shield fretted the oil feed tubes. We are issuing this AD to prevent an uncontained failure of the high pressure (HP) turbine disc and damage to the airplane.

Compliance

(e) You are responsible for having the actions required by this AD performed within the compliance times specified unless the actions have already been done.

Initial Inspection

(f) Initially inspect the HP/IP turbine oil feed tube outer heat shield for cracks. Use either 3.A.(1) through 3.A.(3) on-wing procedures or 3.B.(1)(a) through 3.B.(1)(e) in-shop procedures of RR ASB RB.211-72-AF045, Revision 2, dated July 27, 2006, at one of the following compliance times:

(1) At the next shop visit of the 05 Module regardless of the reason for the visit, or

(2) Before one of the following intervals whichever occurs latest:

(i) 30 days from the effective date of this AD, or

(ii) 10,000 hours or 2,500 cycles since new, whichever occurs first, or

(iii) 2,500 cycles since overhaul of the 05 Module.

Repetitive Inspection

(g) Re-inspect the HP/IP turbine oil feed tube outer heat shield for cracks as specified in the applicable criteria of paragraphs C.(1)(b)(i) through C(1)(b)(vi) or C(2)(b)(i) through C(2)(b)(ii) of RR ASB RB.211-72-AF045, Revision 2, dated July 27, 2006. Use either 3.A.(1) through 3.A.(3) on-wing procedures or 3.B.(1)(a) through 3.B.(1)(e) in-shop procedures of RR ASB RB.211-72-AF045, Revision 2, dated July 27, 2006.

Remove HP/IP Turbine Oil Feed Tube Outer Heat Shields From Service

(h) Remove from service HP/IP turbine oil feed tube outer heat shields according to the applicable criteria in paragraphs C(1)(b)(vii) through C(1)(b)(vii) or C(2)(b)(iii) of RR ASB RB.211-72-AF045, Revision 2, dated July 27, 2006.

Alternative Methods of Compliance

(i) The Manager, Engine Certification Office, has the authority to approve alternative methods of compliance for this AD if requested using the procedures found in 14 CFR 39.19.

Related Information

(j) EASA airworthiness directive 2006-0073, dated April 3, 2006, also addresses the subject of this AD.

Material Incorporated by Reference

(k) You must use Rolls-Royce Alert Service Bulletin No. RB.211-72-AF045, Revision 2, dated July 27, 2006, to perform the inspections required by this AD. The Director of the Federal Register approved the incorporation by reference of this service bulletin in accordance with 5 U.S.C. 552(a) and 1 CFR part 51. Contact Rolls-Royce plc P.O. Box 31, Derby, DE24 8BJ, United Kingdom; telephone 44 (0) 1332 242424; Fax 44 (0) 1332 249936 for a copy of this service information. You may review copies at the FAA, New England Region, Office of the Regional Counsel, 12 New England Executive Park, Burlington, MA; or at the National Archives and Records Administration (NARA). For information on the availability of this material at NARA, call 202-741-6030, or go to: http://www.archives.gov/ federal-register/cfr/ ibr-locations.html.

Issued in Burlington, Massachusetts, on November 3, 2006.
Peter A. White,
Acting Manager, Engine and Propeller Directorate, Aircraft Certification Service.

[FR Doc. E6-18964 Filed 11-13-06; 8:45 am]

BILLING CODE 4910-13-P